FEDERAL COMMUNICATIONS COMMISSION

Notice of Public Information Collection(s) Being Reviewed by the Federal Communications Commission for Extension Under Delegated Authority

September 29, 2003.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments December 8, 2003. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at (202) 418-0214 or via the Internet at Judith-B.Herman@fcc.gov.

SUPPLEMENTARY INFORMATION: OMB Control No.: 3060-0711.

Title: Implementation of Section 34(a)(1) of the Public Utility Holding Company Act of 1935, as amended by the Telecommunications Act of 1996, (47 CFR Sections 1.5001-1.5007).

Form No.: N/A.

Type of Review: Extension of currently approved collection.

Respondents: Business or other for profit.

Number of Respondents: 15.

Estimated Time Per Response: 10 hours.

Frequency of Response: Third party disclosure and on occasion reporting requirements.

Total Annual Burden: 150 hours.

Total Annual Cost: $48,000.

Needs and Uses: 47 CFR Sections 1.5001-1.5007 implement Sction 34(a) of the Public Utility Holding Company Act. The rules provide filing requirements and procedures to expedite public utility holding company entry into the telecommunications industry. Persons seekings a determination of ETC status must file in good faith for determination by the Commission. The information will be used by the Commission to determine whether persons satisfy the statutory criteria for exempt telecommunications company status.

OMB Control No.: 3060-0745.

Title: Implementation of the Local Exchange Carrier Tariff Streamlining Provisions in the Telecommunications Act of 1996, CC Docket No. 96-187.

Form No.: N/A.

Type of Review: Extension of currently approved collection.

Respondents: Business or other for profit.

Number of Respondents: 1,520.

Estimated Time Per Response: 0.33-9.0 hours.

Frequency of Response: Recordkeeping, third party disclosure and on occasion reporting requirements.

Total Annual Burden: 1,150 hours.

Total Annual Cost: $5,100,000.

Needs and Uses: In CC Docket No. 96-187, the Commission adopted measures to streamline tariff filing requirements for local exchange carriers (LECs) of the Telecommunications Act of 1996. In order to achieve a streamlined and deregulatory environment for local exchanged carrier tariff filings, local exchange carriers are required to file tariffs electronically. Other carriers are permitted to file their tariffs electronically.

OMB Control No.: 3060-0943.

Title: 47 CFR Section 54.809, Carrier Certification.

Form No.: N/A.

Type of Review: Extension of currently approved collection.

Respondents: Business or other for profit.

Number of Respondents: 27.

Estimated Time Per Response: 1.5 hours.

Frequency of Response: Third Party Disclosure and annual reporting requirements.

Total Annual Burden: 41 hours.

Total Annual Cost: N/A.

Needs and Uses: Section 54.809 of the Commission's rules requires each price cap or competitve LEC that wishes to receive universal support to file an annual certification with the Universal Service Administrative Company and the Commission. The certification must state that the carrier will use its interstate access universal service support only for the provision, maintenance, and upgrading of facilities and service for which the support is intended.

Federal Communications Commission.
Marlene H. Dortch,
Secretary.

[FR Doc. 03-25598 Filed 10-8-03; 8:45 am]

BILLING CODE 6712-01-P